DEPARTMENT OF AGRICULTURE

Forest Service

Siskiyou Resource Advisory Committee (RAC)

AGENCY: Forest Service, USDA.

ACTION: Notice of meeting.

SUMMARY: The Siskiyou Resource Advisory Committee will meet on Thursday, March 5, 2009 to recommend Title II projects for fiscal year 2009 under the Secure Rural Schools and Community Self Determination Act of 2000. The meeting will be held at the Grants Pass Interagency Office, 2164 NE. Spalding Avenue, Grants Pass, Oregon, It begins at 9:30 a.m., ends at 4:30 p.m.; the open public comments begin at 11 a.m. and ends at 11:30 a.m. Written comments may be submitted prior to the meeting and delivered to Designated Federal Official, Scott Conroy at the Rogue River-Siskiyou National Forest, 3040 Biddle Road, Medford, Oregon 97504.

FOR FURTHER INFORMATION CONTACT: Rogue River-Siskiyou National Forest Public Affairs Officer Patty Burel at telephone: (541) 618-2113, or cell phone (541) 941-4268, e-mail: pburel@fs.fed.us, or USDA Forest Service, 3040 Biddle Road, Medford, OR, 97504.

Dated: February 19, 2009.
Scott Conroy,
Forest Supervisor, Rogue River-Siskiyou National Forest.

[FR Doc. E9-4013 Filed 2-26-09; 8:45 am]

BILLING CODE 3410-11-M